DEPARTMENT OF HEALTH AND HUMAN SERVICES

Administration for Children and Families

Submission for OMB Review; Human Services Programs in Rural Contexts Study

AGENCY: Office of Planning, Research, and Evaluation, Administration for Children and Families, HHS.

ACTION: Request for public comment.

SUMMARY: The Administration for Children and Families (ACF) at the U.S. Department of Health and Human Services is proposing to collect data on the challenges and unique opportunities of administering human services programs in rural contexts. Case studies of 12 communities, in combination with analysis of administrative data and qualitative comparative analysis of the qualitative data, will provide ACF with a rich description of human services programs in rural contexts and provide ACF opportunities for strengthening human services programs' capacity to promote the economic and social wellbeing of individuals, families, and communities in rural contexts.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: ACF proposes to conduct key informant interviews during site visits to 12 rural communities. While ACF intends to conduct on-site visits, if the current COVID-19 pandemic makes it too difficult to travel safely, we will conduct these interviews virtually. This study will involve four data collection instruments:

• Site Visit Planning Template. Each Project Director (or their designee) will complete a Site Visit Planning Template to assist the study team in scheduling site visit interviews.

• Three Site Visit Discussion Guides. To systematically capture data on challenges and unique opportunities, the study team will conduct interviews with (1) project directors and leaders from human services organizations, (2) staff from the human services and partner organizations, and (3) staff from nonprofit and partner organizations that support individuals who utilize human services.

Respondents: Human services project directors and leadership staff, human services program staff, and staff from nonprofit organizations and partners that provide support to individuals who utilize human services.

Annual Burden Estimates
Instrument | Number of respondents (total over request period) | Number of responses per respondent (total over request period) | Avg. burden per response (in hours) | Total burden (in hours) | Annual burden (in hours)
In-Person Site Visit Planning Template (Instrument 1a); or Virtual Site Visit Planning Template (Instrument 1b) | 12 | 1 | 2 | 24 | 12
Project Directors and Leaders Site Visit Discussion Guide (Instrument 2) | 60 | 1 | 2 | 120 | 60
Staff Site Visit Discussion Guide (Instrument 3) | 108 | 1 | 1.5 | 162 | 81
Nonprofit or Partner Organizations Site Visit Discussion Guide (Instrument 4) | 72 | 1 | 1 | 72 | 36

Estimated Total Annual Burden Hours: 189.

Authority: 42 U.S.C. 613, 42 U.S.C. 1397, 42 U.S.C. 711, and 42 U.S.C. 603(a)(2).

Mary B. Jones,
ACF/OPRE Certifying Officer.

[FR Doc. 2021-05771 Filed 3-18-21; 8:45 am]

BILLING CODE 4184-09-P